FEDERAL COMMUNICATIONS COMMISSION

47 CFR Part 73

[DA 25-288; FR ID 288249]

Radio Broadcasting Services; Various Locations

AGENCY: Federal Communications Commission.

ACTION: Final rule.

SUMMARY: This document amends the Table of FM Allotments, of the Federal Communications Commission's (Commission) rules, by reinstating certain channels as a vacant FM allotment in various communities. The FM allotments were previously removed from the FM Table because a construction permit and/or license was granted. These FM allotments are now considered vacant because of the cancellation of the associated FM authorizations or the dismissal of long-form auction FM applications. A staff engineering analysis confirms that all of the vacant FM allotments complies with the minimum distance separation requirements and principle community coverage requirements of the Commission's rules. The window period for filing applications for these vacant FM allotments will not be opened at this time. Instead, the issue of opening these allotments for filing will be addressed by the Commission in subsequent order.

DATES: Effective April 4, 2025.

FOR FURTHER INFORMATION CONTACT: Rolanda F. Smith, Media Bureau, (202) 418-2054, Rolanda-Faye.Smith@fcc.gov.

SUPPLEMENTARY INFORMATION: This is a synopsis of the Commission's Order, adopted March 28, 2025, and released March 31, 2025. The full text of this Commission decision is available online at https://apps.fcc.gov/ecfs/. The full text of this document can also be downloaded in Word or Portable Document Format (PDF) at https://www.fcc.gov/edocs. This document does not contain information collection requirements subject to the Paperwork Reduction Act of 1995, Public Law 104-13. The Commission will not send a copy of the Order in a report to be sent to Congress and the Government Accountability Office pursuant to the Congressional Review Act, see 5 U.S.C. 801(a)(1)(A), because these allotments were previously reported.

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202, amend table 1 to paragraph (b) by:

a. Adding the entry for “Hope” in alphabetical order under Arkansas.

b. Revising the entry for “Avenal” in alphabetical order under California.

c. Revising the entry for “Grand Marais” in alphabetical order under Minnesota.

d. Under Montana:

i. Adding the entry for “Valier” in alphabetical order.

ii. Removing the entry for “Valler” in alphabetical order.

e. Under Texas:

i. Revising the entries for “Dalhart” and “Kermit” in alphabetical order;

ii. Adding the entries for “Mount Vernon,” “Oakwood” and “O'Brien” in alphabetical order;

iii. Revising the entry for “Seymour” in alphabetical order.

The additions and revisions read as follows:

§ 73.202 Table of Allotments.

* * * * *

(b) * * *

Table 1 to Paragraph (b)
[U.S. States]
| Channel No.
* * * * *
Arkansas
* * * * *
Hope | 285A
* * * * *
California
Avenal | 295A
* * * * *
Minnesota
* * * * *
Grand Marais | 237C1, 245C3
* * * * *
Montana
* * * * *
Valier | 289C1
* * * * *
Texas
* * * * *
Dalhart | 241C1, 261C2
* * * * *
Kermit | 229A, 289C3
* * * * *
Mount Vernon | 263A
* * * * *
Oakwood | 233A
O'Brien | 288C2
* * * * *
Seymour | 222C2, 230C2
* * * * *

[FR Doc. 2025-05848 Filed 4-3-25; 8:45 am]

BILLING CODE 6712-01-P